DEPARTMENT OF VETERANS AFFAIRS

[OMB Control No. 2900-0773]

Agency Information Collection Activity: Veterans' Health Benefits Handbook Questionnaire

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before November 30, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0773” in any correspondence.

FOR FURTHER INFORMATION CONTACT: Cynthia Harvey-Pryor, Office of Quality, Privacy and Risk (OQPR), Department of Veterans Affairs, 810 Vermont Avenue NW., Washington, DC 20420, (202) 461-5870 or email cynthia.harvey-pryor@va.gov Please refer to “OMB Control No. 2900-0773” in any correspondence.

SUPPLEMENTARY INFORMATION:

Authority: E.O. 12862.

Title: Veterans' Health Benefits Handbook Questionnaire—VA Form 10-0507.

OMB Control Number: 2900-0773.

Type of Review: Extension of a currently approved collection.

Abstract: The Veterans' Health Benefits Handbook is available to all enrolled Veterans. The Handbook contains general eligibility and benefits information and most importantly, information specific to the Veteran. VHA seeks approval for this collection to provide Veterans an opportunity to provide anonymous feedback on the content and presentation of the material contained in the Handbook. VHA will use the information gathered to determine how well the Handbook meets Veterans' needs and make changes to the Handbook where needed. This voluntary survey will not be used as a substitute for traditional program evaluation surveys that measure objective outcomes. To maximize the voluntary response rates, the information collection will be designed to foster convenient, simple and barrier free participation. The data collected will consist of the minimum amount of information necessary to determine customer satisfaction. The areas of concern to VHA and its customers change rapidly and it is essential to have the ability to evaluate customer concerns in a timely manner.

An agency may not conduct or sponsor, and a person is not required to respond to a collection of information unless it displays a currently valid OMB control number. The Federal Register Notice with a 60-day comment period soliciting comments on this collection of information was published at Vol. 82 FR No. 162, August 23, 2017, page 40064.

Affected Public: Individuals and households.

Estimated Annual Burden: 135 hours.

Estimated Average Burden per Respondent: 5 minutes.

Frequency of Response: Annually.

Estimated Number of Respondents: 1,060.

By direction of the Secretary.
Cynthia Harvey-Pryor,
Department Clearance Officer, Office of Quality, Privacy and Risk, Department of Veterans Affairs.

[FR Doc. 2017-23586 Filed 10-30-17; 8:45 am]

BILLING CODE 8320-01-P